DEPARTMENT OF AGRICULTURE

Forest Service

Availability of the Luna Lake Trail Relocation Environmental Assessment, Including a Proposed Non-Significant Amendment to the 1997 Revision to the Routt National Forest Land and Resource Management Plan, Garfield, Grand, Jackson, Moffat, Rio Blanco, and Routt Counties, CO

AGENCY: U.S. Forest Service, U.S.D.A.

ACTION: Notice of availability of an environmental assessment.

SUMMARY: An environmental assessment of the proposed relocation of approximately three miles of the Luna Lake Trail in the Mt. Zirkel Wilderness that was heavily impacted by the Routt Divide Blowdown event in October 1997 is available upon request. The analysis includes a proposed non-significant amendment to the 1997 Revision to Routt National Forest Land and Resource Management Plan to reallocate acres in management area prescriptions in the project area. The amendment is necessary to reflect the change in recreational use patterns and social encounters that would result from trail relocation. This notice is provided pursuant to National Forest System Land and Resource Management Planning regulations (36 CFR 219.35, 65 FR 67579, November 9, 2000).

DATES: Public scoping on this proposed project was initiated on August 8, 1999. A pre-decisional Environmental Assessment was issued on August 2, 2000. The official public comment period ended on September 11, 2000.

ADDRESSES: Send requests for documents to: Forest Supervisor, Medicine Bow-Routt National Forests and Thunder Basin National Grassland, 2468 Jackson Street, Laramie, WY 82070-6535.

FOR FURTHER INFORMATION CONTACT: Ed Patalik, Recreation Planner, Hahns Peak-Bears Ears Ranger District, 925 Weiss Drive, Steamboat Springs, CO 80487-9315. Phone: (970) 870-2245 Electronic mail: epatalik@fs.fed.us

SUPPLEMENTARY INFORMATION: Public scoping for this project was initiated with an article in the Steamboat TODAY newspaper, Steamboat Springs, Colorado, on August 8, 1999.

On April 7, 2000, a letter describing this proposed project and the non-significant amendment to the 1997 Revision to the Routt National Forest Land and Resource Management Plan was mailed to over 1,800 individuals and organizations on the Routt Forest Plan and Routt Divide Blowdown mailing lists. This mailing was followed with another article about the proposed project in the Steamboat TODAY newspaper on April 14, 2000.

A pre-decisional Environmental Assessment was made available for review and public comment invited in legal notices published in the Steamboat TODAY newspaper on August 2, 2000, and in the Laramie Daily Boomerang, Laramie, Wyoming on August 9, 2000. The official public comment period ended on September 11, 2000.

Dated: April 17, 2001.
Mary H. Peterson,
Forest Supervisor.

[FR Doc. 01-10536 Filed 5-1-01; 8:45 am]

BILLING CODE 3410-11-M